DEPARTMENT OF THE INTERIOR

National Park Service

[NPS-WASO-NAGPRA-NPS0036392; PPWOCRADN0-PCU00RP14.R50000]

Notice of Inventory Completion Amendment: U.S. Department of Interior, Bureau of Indian Affairs, Washington, DC

AGENCY: National Park Service, Interior.

ACTION: Notice; amendment.

SUMMARY: In accordance with the Native American Graves Protection and Repatriation Act (NAGPRA), the U.S. Department of Interior, Bureau of Indian Affairs (BIA) has amended a Notice of Inventory Completion published in the Federal Register on October 8, 2003. This notice amends the number of associated funerary objects in a collection removed from Riverside County, CA.

DATES: Repatriation of the human remains and associated funerary objects in this notice may occur on or after September 18, 2023.

ADDRESSES: Tamara Billie, NAGPRA Lead, Bureau of Indian Affairs, 1001 Indian School Road NW, Mailbox 44—Suite 345, Albuquerque, NM 87104, telephone (505) 879-9711, email tamara.billie@bia.gov.

SUPPLEMENTARY INFORMATION: This notice is published as part of the National Park Service's administrative responsibilities under NAGPRA. The determinations in this notice are the sole responsibility of the BIA. The National Park Service is not responsible for the determinations in this notice. Additional information on the amendments and determinations in this notice, including the results of consultation, can be found in the inventory or related records held by the BIA.

Amendment

This notice amends the determinations published in a Notice of Inventory Completion in the Federal Register (68 FR 58137-58138, October 8, 2003). Repatriation of the items in the original Notice of Inventory Completion has not occurred. The amendment is being made to reflect the addition of newly identified associated funerary objects from the same archeological collection (accession 22). These funerary objects are under the control of the BIA and in the physical custody of the University of California, Riverside. The original notice listed human remains and did not list any associated funerary objects. Tribal representatives have reviewed the remaining objects in the collection and have identified funerary objects. The five associated funerary objects are one lot consisting of animal bones, one lot consisting of ceramic sherds, one lot consisting of lithics, one lot consisting of mineralogical objects, and one lot consisting of unmodified shells.

Determinations (as Amended)

Pursuant to NAGPRA and its implementing regulations, and after consultation with the appropriate Indian Tribes and Native Hawaiian organizations, the BIA has determined that:

• The human remains represent the physical remains of one individual of Native American ancestry.

• The five lots of objects are reasonably believed to have been placed with or near individual human remains at the time of death or later as part of the death rite or ceremony.

• There is a relationship of shared group identity that can be reasonably traced between the human remains and associated funerary objects described in this notice and the Agua Caliente Band of Cahuilla Indians of the Agua Caliente Indian Reservation, California.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after September 18, 2023. If competing requests for repatriation are received, the BIA must determine the most appropriate requestor prior to repatriation. Requests for joint repatriation of the human remains and associated funerary objects are considered a single request and not competing requests. The BIA is responsible for sending a copy of this notice to the Indian Tribe identified in this notice.

Authority: Native American Graves Protection and Repatriation Act, 25 U.S.C. 3003, and the implementing regulations, 43 CFR 10.9, 10.10, 0.13, and 10.14.

Dated: August 9, 2023.
Melanie O'Brien,
Manager, National NAGPRA Program.

[FR Doc. 2023-17790 Filed 8-17-23; 8:45 am]

BILLING CODE 4312-52-P